DEPARTMENT OF TRANSPORTATION

Office of the Secretary

Aviation Proceedings, Agreements Filed the Week Ending September 14, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-29261.

Date Filed: September 14, 2007.

Parties: Members of the International Air Transport Association.

Subject:

Composite Passenger Tariff Coordinating Conference.

Bangkok, 16-19 July 2007.

Composite Resolutions.

Intended Effective Date: 1 April 2008.

Docket Number: OST-2007-29262.

Date Filed: September 14, 2007.

Parties: Members of the International Air Transport Association.

Subject:

Composite Passenger Tariff Coordinating Conference.

Bangkok, 16-19 July 2007.

Composite Resolutions.

Intended Effective Date: 1 June 2008.

Renee V. Wright,
Program Manager, Docket Operations, Federal Register Liaison.

[FR Doc. E7-18695 Filed 9-20-07; 8:45 am]

BILLING CODE 4910-9X-P